FEDERAL COMMUNICATIONS COMMISSION

[OMB 3060-0804; FR ID 216172]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before July 1, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-0804.

Title: Universal Service—Rural Health Care Program.

Form Numbers: FCC Forms 460, 461, 462, 463, 465, 466, 467, and 469.

Type of Review: Revision of a currently approved collection.

Respondents: Business or other for-profit; Not-for-profit institutions; Federal Government; and State, Local, or Tribal governments.

Number of Respondents and Responses: 12,854 unique respondents; 117,071 responses.

Estimated Time per Response: 0.30-17 hours.

Frequency of Response: On occasion, one-time, annual, and monthly reporting requirements.

Obligation to Respond: Required to obtain or retain benefits. Statutory authority for this collection of information is contained in sections 1-4, 201-205, 214, 254, 303(r), and 403 of the Communications Act of 1934, as amended, 47 U.S.C. 151-154, 201-205, 214, 254, 303(r), and 403, unless otherwise noted.

Total Annual Burden: 442,389 hours.

Total Annual Cost: No Cost.

Needs and Uses: The Commission seeks OMB approval of a revision of this information collection as a result of the 2023 Promoting Telehealth Third Report and Order, FCC 23-110, rel. December 14, 2023 (2023 Third Report and Order) (89 FR 1834, January 11, 2024). This collection is utilized for the RHC support mechanism of the Commission's universal service fund (USF). The collection of this information is necessary so that the Commission and the Universal Service Administrative Company (USAC) will have sufficient information to determine if entities are eligible for funding pursuant to the RHC universal service support mechanism, to determine if entities are complying with the Commission's rules, and to promote program integrity. This information is also necessary in order to allow the Commission to evaluate the extent to which the RHC Program is meeting the statutory objectives specified in section 254(h) of the 1996 Act, and the Commission's performance goals for the RHC Program.

This information collection is being revised to: (1) extend some of the existing information collection requirements for the Healthcare Connect Fund and Telecom Programs; (2) revise some of the information collection requirements for the Healthcare Connect Fund and Telecom Programs as a result of the 2023 Third Report and Order; and (3) add a new information collection requirement for the Healthcare Connect Fund and Telecom Programs as a result of the 2023 Third Report and Order. As part of this information collection, the Commission is also revising the FCC Form 460 Template, the FCC Form 461 Template, the FCC Form 465 Template, the FCC Form 466 Template, and the Post-Commitment Template. We propose to make changes to the Post-Commitment Template effective funding year 2024. We propose to make changes to the FCC Form 460 Template, the FCC Form 461 Template, the FCC Form 465 Template, and the FCC Form 466 Template effective funding year 2025. The FCC Form 467 and Telecom Invoice Form will not be used after funding year 2023.

As part of this information collection, the Commission is harmonizing the RHC Program eligibility determination process by using the FCC Form 460 for eligibility determinations in both the Telecom Program and the HCF Program, eliminating the eligibility determination portion from FCC Form 465, which was previously used for eligibility determinations in the Telecom Program. The FCC Form 460 will also be amended to seek information applicable to conditional approvals of eligibility, which will enable health care providers to engage in competitive bidding and request funding (but not receive disbursements) before they become eligible. Additionally, the FCC Form 466 will be amended effective to reflect a streamlined process for calculating urban rates. Finally, the information collection will be updated to allow health care providers to update the time period covered by evergreen contract designations.

The Healthcare Connect Fund Program currently includes FCC Forms 460, 461, 462, and 463. Effective funding year 2024, the Telecom Program includes FCC Forms 465, 466, and 469 and will include the FCC Form 460 starting in funding year 2025. The information on the FCC Form templates is a representative description of the information to be collected via an online portal and is not intended to be a visual representation of what each applicant or service provider will see, the order in which they will see information, or the exact wording or directions used to collect the information. Where possible, information already provided by applicants from previous filing years or that was pre-filed in the system portal will be carried forward and auto-generated into the form to simplify the information collection for applicants.

Federal Communications Commission.
Marlene Dortch,
Secretary, Office of the Secretary.

[FR Doc. 2024-09215 Filed 4-29-24; 8:45 am]

BILLING CODE 6712-01-P